DEPARTMENT OF VETERANS AFFAIRS

Privacy Act of 1974; System of Records

AGENCY: Veterans Health Administration (VHA), Department of Veterans Affairs (VA).

ACTION: Rescindment of a system of records.

SUMMARY: VA is rescinding an outdated system of records titled, “Compliance Records, Response, and Resolution of Reports of Persons Allegedly Involved in Compliance Violations-VA” (106VA17). This system of records covered reports of suspected compliance violations and response to such allegations.

DATES: The system was discontinued on September 17, 2023. Comments on this rescinded system of records must be received no later than 30 days after date of publication in the Federal Register. If no public comment is received during the period allowed for comment or unless otherwise published in the Federal Register by the VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Compliance Records, Response, and Resolution of Reports of Persons Allegedly Involved in Compliance Violations—VA” (106VA17). Comments received will be available at regulations.gov for public viewing, inspection or copies.

FOR FURTHER INFORMATION CONTACT: Stephania Griffin, VHA Chief Privacy Officer, Department of Veterans Affairs, 810 Vermont Avenue NW, Washington, DC 20420; telephone (704) 245-2492 (Note: this is not a toll-free number).

SUPPLEMENTARY INFORMATION: Categories of individuals covered by the system of records were employees, Veterans, third parties such as contractors who conduct official business with the VHA, family members or representatives of Veterans, and subjects of complaints and complainants. Complainants are individuals who have reported a possible violation of law, rules, policies, regulations, or external program requirements, such as third-party payer billing guidelines. Records were maintained in a computerized database, paper files, and electronically in a manner that allowed a user to retrieve the records by an individual's name or other identifier assigned to an individual. The VHA Office of Integrity and Compliance, in conjunction with the VA Office of Information and Technology, modified the computerized database to prohibit the retrieval of electronic records by an individual's name or other unique identifier assigned to an individual.

This system of records notice is being rescinded for use as the computer database now only contains records which are not retrieved by a name or a unique identifier that can be connected to individuals. The records associated with “Compliance Records, Response, and Resolution of Reports of Persons Allegedly Involved in Compliance Violations—VA” will be retained and destroyed in accordance with VHA Records Control Schedule 10-1, item number 1110.5.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on February 26, 2024 for publication.

Dated: February 27, 2024.
Amy L. Rose,
Government Information Specialist, VA Privacy Service, Office of Compliance, Risk and Remediation, Office of Information and Technology, Department of Veterans Affairs.

SYSTEM NAME:

“Compliance Records, Response, and Resolution of Reports of Persons Allegedly Involved in Compliance Violations—VA” (106VA17)

HISTORY:

74 FR 41490 (August 17, 2009).

[FR Doc. 2024-04339 Filed 2-29-24; 8:45 am]

BILLING CODE 8320-01-P